DEPARTMENT OF JUSTICE

Notice of Lodging of Proposed Consent Decree Under the Clean Air Act

On March 24, 2015, the Department of Justice lodged a proposed Consent Decree with the United States District Court for the District of Columbia in the lawsuit entitled United States v. MTU America Inc., Civil Action No. 15-cv-429. The complaint was filed on the same day.

In the complaint, the United States, on behalf of the United States Environmental Protection Agency, seeks civil penalties and injunctive relief based on allegations that MTU America, Inc. (formerly Tognum America, Inc., and prior to that MTU Detroit Diesel), (hereinafter, “MTU”) violated Sections 203(a) and 213 of Title II of the Clean Air Act (“CAA”), 42 U.S.C. 7522(a) and 7547, by selling 895 non-road engines without valid certificates of conformity. Under the Consent Decree, MTU will pay a civil penalty of $1.2 million, conduct three annual audits of its compliance with the CAA's Title II requirements, and remedy any noncompliance revealed by the audits.

The publication of this notice opens a period for public comment on the Consent Decree. Comments should be addressed to the Assistant Attorney General, Environment and Natural Resources Division, and should refer to United States v. MTU America Inc., D.J. Ref. No. 90-5-2-1-10493. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $9.00 (25 cents per page reproduction cost) payable to the United States Treasury.

Maureen Katz,
Assistant Section Chief, Environmental Enforcement Section, Environment and Natural Resources Division.

[FR Doc. 2015-07178 Filed 3-27-15; 8:45 am]

BILLING CODE 4410-15-P